DEPARTMENT OF TRANSPORTATION

Federal Aviation Administration

14 CFR Part 39

[Docket No. FAA-2007-28246; Directorate Identifier 2007-CE-048-AD]

RIN 2120-AA64

Airworthiness Directives; Cirrus Design Corporation Models SR20 and SR22 Airplanes

AGENCY: Federal Aviation Administration (FAA), DOT.

ACTION: Supplemental notice of proposed rulemaking (NPRM); Reopening of the comment period.

SUMMARY: We are revising an earlier proposed airworthiness directive (AD) that applies to certain Cirrus Design Corporation (CDC) Models SR20 and SR22 airplanes. The earlier NPRM would have required you to inspect and, as necessary, adjust the aileron and rudder rigging and would have required you to modify, inspect, and, as necessary, adjust the rudder-aileron interconnect system. The earlier NPRM resulted from a jamming of the aileron and rudder controls on a Model SR20 airplane, which resulted in loss of rudder and aileron flight controls. Since issuance of the NPRM, CDC revised the service information as a result of comments received on the NPRM, and the FAA has determined the changes to the service information are necessary to address the unsafe condition. The changes in the revised service information include the addition of airplanes to the Applicability; a requirement to check rudder, aileron, and rudder-aileron interconnect rigging; a requirement to replace the attaching hardware and clamp at the end of the rudder-aileron interconnect arm; and an increase in work-hours to do the proposed actions. This proposed AD would require you to use the revised service information and would require you to report any out-of-rig condition found. Since these actions impose an additional burden over that proposed in the NPRM, we are reopening the comment period to allow the public the chance to comment on these additional actions.

DATES: We must receive comments on this proposed AD by January 3, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Cirrus Design Corporation, 4515 Taylor Circle, Duluth, Minnesota 55811; telephone: (218) 727-2737; Internet address: http://www.cirrusdesign.com.

FOR FURTHER INFORMATION CONTACT: Wess Rouse, Aerospace Engineer, 2300 East Devon Avenue, Room 107, Des Plaines, Illinois 60018; telephone: (847) 294-8113; fax: (847) 294-7834.

SUPPLEMENTARY INFORMATION:

Comments Invited

We invite you to send any written relevant data, views, or arguments regarding this proposed AD. Send your comments to an address listed under the ADDRESSES section. Include the docket number, “FAA-2007-28246; Directorate Identifier 2007-CE-048-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

On June 14, 2007, we issued a proposal to amend part 39 of the Federal Aviation Regulations (14 CFR part 39) to include an AD that would apply to certain CDC Models SR20 and SR22 airplanes. This proposal was published in the Federal Register as a notice of proposed rulemaking (NPRM) on June 21, 2007 (72 FR 34198). The NPRM proposed to require you to inspect and, as necessary, adjust the aileron and rudder rigging and would require you to modify, inspect, and, as necessary, adjust the rudder-aileron interconnect system.

Comments

We provided the public the opportunity to participate in developing this AD. The following presents the comments received on the proposal and FAA's response to each comment:

Comment Issue No. 1: Language in the Summary of the NPRM Implies That the Control Jamming Event Only Occurs on the Ground

Mr. Gene Hudson and Ms. Bridgette Doremire state that language in the Summary of the NPRM improperly implies that the control jamming event only occurs on the ground. They contend that such language might encourage owners and operators to underestimate the risk. Hudson recommends deleting the language from the Summary.

We agree that the language of the Summary could imply that the control jamming event only occurs on the ground. To eliminate this implication, we will delete the language in the Summary that implies that the control jamming event only occurs on the ground.

Comment Issue No. 2: Remove Text From the Service Information That States the Control Jamming Event Has Not Been Seen on Aircraft With Flight Control Systems Rigged to Specifications

Hudson and Doremire state the service information text is misleading and implies that the jamming of the flight controls will only occur if the flight controls have been improperly rigged after leaving the factory. They claim that evidence exists of airplanes being improperly rigged at the factory or of flight controls jamming in the field after aircraft are rigged at the factory. Hudson recommends deleting the text from the service information or not referencing the service information in the proposed AD if the service information includes the misleading text.

We do not agree with the commenters. Although it is not known how the controls became improperly rigged, this is the reason the jamming occurred. The aileron and rudder controls have not jammed on a properly rigged airplane. The CDC has changed the rigging procedure to give more detailed instructions regarding the rigging procedure.

We are not changing the proposed AD as a result of this comment.

Comment Issue No. 3: Include Text in the Proposed AD That the Jamming Condition Can Occur at Positions Other Than Full Cross Control

Hudson and Doremire contend that the jamming condition can occur at positions other than full cross control. The commenters claim that they have inspected several airplanes and have noted interference conditions during cross-control deflections at less than half-travel. We infer that the commenters want language in the proposed AD to reflect that the jamming condition can occur at positions other than full cross control.

There has been no evidence provided to show that there is a problem until full cross-control. The airplane that we inspected showed no interference until full cross control. One of the airplanes that the commenters discussed was reviewed by representatives of the FAA, CDC, and the National Transportation Safety Board (NTSB). It was determined that the airplane's rudder was improperly rigged. The CDC has revised procedures for rudder rigging to give more detailed instructions in the manufacturer's service bulletin.

We are not changing the proposed AD as a result of this comment.

Comment Issue No. 4: Proposed AD Gives the False Impression That the Jamming Condition Has Been Identified on Only One Airplane

Hudson and Doremire state that the proposed AD gives the impression that the jamming condition has been identified on only 1 airplane. Doremire claims to have seen the jamming condition on 12 airplanes. Hudson also states that a posting on an Internet Web site indicates that aircraft owners believe that the problem has only been found on 1 airplane.

The jammed condition initially occurred on 1 airplane. However, subsequent inspections have shown improper rigging on other airplanes.

We will revise the proposed AD to identify the occurrence of improper rigging on several airplanes.

Comment Issue No. 5: Issue the Proposed AD as an Emergency AD and Ground Any Airplane That Has Not Incorporated the Modifications Required by the AD

Hudson and Doremire contend that the urgency of the rudder-aileron interconnect problem has been understated. They want this AD action to be an Emergency AD and include the immediate grounding of any airplane that has not incorporated the modifications required by the AD.

Our risk assessment shows the rudder-aileron interconnect problem warrants NPRM AD action.

We are not changing the proposed AD as a result of this comment.

Comment Issue No. 6: Inspect for Clamp and Bungee Clamp Interference With Adjacent Control Cables; Implement a Solution to the Control System Interference

Hudson and Doremire state that there is a significant risk for flight control cable fraying with repeated clamp chafing, especially in airplanes used in flight training. Further, airplanes have potentially experienced chafing while doing normal crosswind takeoffs and landings. They recommend revising the proposed AD to require an inspection for clamp and bungee clamp interference with adjacent control cables, including a specific check for rudder, aileron, and elevator control cable fraying in the 12 inches adjacent to the forward and aft bungee clamps and the interconnect arm rudder clamp.

The commenters also recommend revising the proposed AD to implement a solution to the control system interference to prevent possible contact between the moving parts of the system throughout the full range of possible control travel.

We agree with the commenters that interference of the control cable mechanism should not occur. The manufacturer's service bulletin has been revised to add design changes to further increase clearances. In addition, more detailed rigging and inspection instructions have been added. Additionally, the revised service bulletin adds a redesigned clamp for the end of the interconnect arm.

We are incorporating the revised service bulletin into the proposed AD.

Comment Issue No. 7: Restrict Affected Aircraft From Forward and Side Slips, Power On and Off Stalls, Unusual Attitudes, Steep Turns, Slow Flight, and Any Takeoffs or Landings in Crosswind Conditions

Doremire strongly recommends restricting all affected aircraft from forward slips, side slips, power on and off stalls, unusual attitudes, steep turns, slow flight, and any takeoffs or landings in crosswind conditions. The commenter states that such restrictions would prevent in-flight loss of control.

The FAA disagrees with the recommendation. The restrictions that the commenter proposes will ground all CDC airplanes until incorporation of the AD actions. The data submitted so far shows that the binding of the controls has only occurred on misrigged airplanes and can be overcome by additional control forces. The risk assessment performed does not support these proposed restrictions.

We are not changing the proposed AD as a result of this comment.

Comment Issue No. 8: Special Flight Permit Limitations

Hudson recommends removal of the interconnect bungee as a condition for the issuance of a special flight permit. We conclude that the commenter recommends the requirement of a special flight permit with the above restriction.

We disagree that the restriction should be added to the AD. Evidence warranting this restriction for a special flight permit has not been shown. In the event that an aircraft has experienced a binding event, the aircraft should not be flown until the binding event is addressed/corrected. The Principal Inspector and/or Flight Standards District Office (FSDO) may always add this restriction on a case-by-case basis when issuing a special flight permit.

We are not changing the proposed AD as a result of this comment.

Comment Issue No. 9: Require Incorporation of Service Bulletin No. SB 2X-27-14 R3 Within the Listed Compliance Time and Allow an Extended Compliance Time for Those Who Have Already Done Service Bulletin No. SB2X-27-14 R2

CDC comments that aircraft complying with Service Bulletin No. SB2X-27-14 R2 minimizes the probability for the locking condition and meets the primary objective of the proposed AD. They request the proposed AD allow for an extended compliance period for those who have already done Service Bulletin No. SB2X-27-14 R2.

We disagree with CDC. The instructions listed in Service Bulletin No. SB2X-27-14 R2 do not include adequate rigging instructions for the rudder. Further, it is not known if the modified airplanes were rigged correctly. Also, additional improvements to the rudder/ailerons interconnect system were made that were not included in Service Bulletin No. SB2X-27-14 R2. The FAA has determined that the changes incorporated into Service Bulletin No. SB 2X-27-14 R3 are necessary to address the unsafe condition.

We are not changing the proposed AD as a result of this comment.

FAA's Determination and Requirements of This Proposed AD

We have carefully reviewed the available data and determined that the unsafe condition referenced in this document exists or could develop on other products of the same type design; and we should take AD action to correct this unsafe condition.

Certain changes described above in the comments expand the scope of the earlier NPRM. As a result, we have determined that it is necessary to reopen the comment period to provide additional opportunity for the public to comment on the proposed AD.

The Supplemental NPRM

Since issuance of the NPRM, CDC has issued Cirrus Service Bulletin No. SB 2X-27-14 R3, Revised: October 10, 2007.

The revised service information includes instructions that add new attaching parts, including an improved bungee clamp that replaces the existing Adel clamp at the end of the rudder-aileron interconnect arm; re-orient existing cable clamps 180 degrees at the RH rudder cable; clarify security of attaching parts and orientation of bungee cord ends; change the serial number effectivity for the Model SR20 airplane; and increase work-hours necessary to do the proposed action.

The FAA has determined that the changes incorporated into the service bulletin are necessary to address the unsafe condition. The added proposed AD actions following the revised service bulletin go beyond the scope of what was originally proposed in the NPRM. Therefore, we are reopening the comment period and allowing the public the chance to comment on these additional actions.

Costs of Compliance

We estimate that this proposed AD affects 2,435 airplanes in the U.S. registry.

We estimate the following costs to do the proposed check of the rudder, aileron, and rudder-aileron interconnect rigging, and replacement of the attaching hardware for the rudder-aileron interconnect arm and RH aileron cable clamps:

Labor cost | Parts cost | Total cost per airplane | Total cost on U.S. operators
1.5 work-hours x $80 per hour = $120 | $18 | $138 | $336,030

CDC will provide warranty credit to the extent noted in Service Bulletin SB 2X-27-14 R3, Issued: May 9, 2007, Revised: October 10, 2007.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cirrus Design Corporation: Docket No. FAA-2007-28246; Directorate Identifier 2007-CE-048-AD.

Comments Due Date

(a) We must receive comments on this airworthiness directive (AD) action by January 3, 2008.

Affected ADs

(b) None.

Applicability

(c) This AD applies to Model SR20 airplanes, serial numbers (SN) 1005 through 1861, and Model SR22 airplanes, SN 0002 through 2333, SN 2335 through 2419, and SN 2421 through 2437, that are certificated in any category.

Unsafe Condition

(d) This AD results from an incident of jamming of the aileron and rudder controls on a Model SR20 airplane and the possibility of the occurrence on other airplanes. In addition, other Models SR20 and SR22 airplanes have been found with misrigging of the flight controls that could lead to jamming. We are issuing this AD to prevent the possibility of jamming of the rudder-aileron interconnect system, which may result in loss of rudder and aileron flight controls.

Compliance

(e) To address this problem, you must do the following, unless already done:

Actions | Compliance | Procedures
(1) Inspect/check the rudder, aileron, and rudder-aileron interconnect rigging; correct any out-of-rig condition; and replace the attaching hardware for the rudder-aileron interconnect arm. | At whichever occurs first: (i) Within the next 25 hours time-in-service (TIS) after the effective date of this AD; or (ii) Within the next 3 months after the effective date of this AD. | Follow Cirrus Service Bulletin No. SB 2X-27-14 R3, Issued: May 9, 2007, Revised: October 10, 2007.
(2) Only if you find an out-of-rig condition: Report to the FAA any out-of-rig conditions discovered as a result of the inspection required by paragraph (e)(1) of this AD on the form in Figure 1 of this AD. The Office of Management and Budget (OMB) approved the information contained in this regulation under the provisions of the Paperwork Reduction Act and assigned OMB Control Number 2120-0056. | At whichever occurs later: (i) Within 10 days after the inspection required in paragraph (e)(1) of this AD; or (ii) Within 10 days after the effective date of this AD. | Send the form (Figure 1 of this AD) to FAA, Manufacturing Inspection District Office, 6020 28th Avenue South, Room 103, Minneapolis, Minnesota, 55450-2700; telephone (612) 713-4366; facsimile (612) 713-4365.

Note: Temporary revisions to the airplane maintenance manuals (AMM), SR20 AMM Temporary Revision No. 27-1 and SR22 AMM Temporary Revision No. 27-1, both dated October 10, 2007, contain information pertaining to this subject.

Docket No. FAA-2007-28246 Inspection Report
[Report only if you find an out-of-rig condition]
1. Inspection Performed By: | 2. Telephone:
3. Aircraft Model: | 4. Airplane Serial Number:
5. Aircraft Total Hours Time-in-Service: | 6. Date of inspection required in paragraph (e)(1) of this AD:
7a. Do any of the aircraft logs contain entries describing flight control system maintenance, preventative maintenance, or alteration: | 7b. If Yes, copy the log book entry(s) and include the date of the entry.
__Yes __No
8. Inspection Results: (Report only if an out-of-rig condition is found, and describe the out-of-rig condition as accurate and detailed as possible):
9. Corrective Action Taken:
Send to:
Federal Aviation Administration
Manufacturing Inspection District Office 6020 28th Avenue South, Room 103
Minneapolis, Minnesota 55450-2700
Telephone (612) 713-4366
Facsimile (612) 713-4365

Alternative Methods of Compliance (AMOCs)

(g) The Manager, Chicago Aircraft Certification Office (ACO), FAA, has the authority to approve AMOCs for this AD, if requested using the procedures found in 14 CFR 39.19. Send information to ATTN: Wess Rouse, Aerospace Engineer, 2300 East Devon Avenue, Room 107, Des Plaines, Illinois 60018; telephone: (847) 294-8113; fax: (847) 294-7834. Before using any approved AMOC on any airplane to which the AMOC applies, notify your appropriate principal inspector (PI) in the FAA Flight Standards District Office (FSDO), or lacking a PI, your local FSDO.

Related Information

(h) To get copies of the service information referenced in this AD, contact Cirrus Design Corporation, 4515 Taylor Circle, Duluth, Minnesota 55811; telephone: (218) 727-2737; Internet address: http://www.cirrusdesign.com. To view the AD docket, go to the U.S. Department of Transportation, Docket Operations, M-30, West Building Ground Floor, Room W12-140, 1200 New Jersey Avenue, SE., Washington, DC 20590, or on the Internet at http://dms.dot.gov. The docket number is Docket No. FAA-2007-28246; Directorate Identifier 2007-CE-048-AD.

Issued in Kansas City, Missouri, on November 28, 2007.
Patrick R. Mullen,
Acting Manager, Small Airplane Directorate, Aircraft Certification Service.

[FR Doc. E7-23456 Filed 12-3-07; 8:45 am]

BILLING CODE 4910-13-P